DEPARTMENT OF AGRICULTURE

Forest Service

RIN 0596-AC44

Notice of Proposed Native Plant Material Policy, Forest Service Manual (FSM) 2070

AGENCY: Forest Service, USDA.

ACTION: Notice of proposed directive; request for comment.

SUMMARY: The Forest Service is proposing to establish a new directive to Forest Service Manual (FSM) 2070 for native plant materials, which will provide direction for the use, growth, development, and storage of native plant materials. Public comment is invited and will be considered in development of the final directive. A copy of the proposed directive is available at http://www.fs.fed.us/rangelands/whoweare/documents/FSM2070_Final_2_062905.pdf.

DATES: Comments must be received in writing by July 25, 2006.

ADDRESSES: Send written comments via the U.S. Postal Service to; Native Plant Materials Proposed Directive, Rangeland Management Staff, MAIL STOP 1103, Forest Service, USDA, 1400 Independence Avenue, SW., Washington, DC 20250, or by facsimile to (202) 205-1096 or by e-mail to nativeplant@fs.fed.us. If comments are sent via facsimile or e-mail, the public is asked not to submit duplicate written comments by mail. Please confine comments to issues pertinent to the proposed directive and explain the reasons for any recommended changes. All comments, including names and addresses when provided, are placed in the record and are available for public inspection and copying at 201 14th Street, SW., Washington, DC, during regular business hours, 8:30 a.m. to 4:30 p.m., Monday through Friday, except holidays. Persons wishing to inspect the comments are encouraged to call in advance to Brian Boyd, (202) 205-1496 to facilitate entrance into the building.

FOR FURTHER INFORMATION CONTACT: Larry Stritch, Rangeland Management Staff, USDA Forest Service, Mailstop 1103, 1400 Independence Avenue, SW., Washington, DC 20250, (202) 205-1279.

SUPPLEMENTARY INFORMATION: Title 36 CFR 219.10(b) states: “The overall goal of the ecological element of sustainability is to provide a framework to contribute to sustaining native ecological systems by providing ecological conditions to support diversity of native plant and animal species in the plan area.” Executive Order 13112 (February 3, 1999, sec. 2(a)(2)(IV)) on invasive species states the agencies will “provide for restoration of native species and habitat conditions in ecosystems that have been invaded [by non-native species].” In accordance with the executive order and regulation, the Forest Service is developing a new proposed directive to Forest Service Manual (FSM) 2070, Native Plant Materials, which addresses the uses of native plant materials in the revegetation, restoration, and rehabilitation of National Forest System lands in order to achieve the Agency's goal of providing for the diversity of plant and animal communities. The proposed policy would direct collaboration with federal, State, and local government entities and the public to develop and implement a program for native plant materials for use in revegetation, restoration, and rehabilitation.

In proposing this new policy, the Forest Service's goal is to promote the use of native plant materials in revegetation for restoration and rehabilitation in order to manage and conserve terrestrial and aquatic biological diversity. The proposed policy defines a native plant as: All indigenous terrestrial and aquatic plant species that evolved naturally in an ecosystem. The proposed policy also requires the use of best available information to choose ecologically adapted plant materials for the site and situation. Further, the proposed policy states that native plants are to be used when timely natural regeneration of the native plant community is not likely to occur; native plant materials are the first choice in revegatation for restoration and rehabilitation efforts. Nonnative, non-invasive plant species may be used when needed: (1) In emergency conditions to protect basic resource values such as soil stability and water quality; (2) as an interim, non-persistent measure designed to aid in new establishment of native plants (unless natural soil, water and biotic conditions have been permanently altered); (3) native plant species are not available; and (4) when working in permanently altered plant communities. Under no circumstances will nonnative invasive plant species be used.

When the proposed policy is issued as final, the Forest Service will: (1) Undertake a comprehensive assessment of needs (type and amount) for native plant materials; (2) invest in a long-term commitment to research and development, education, and technology transfer for native plant materials; (3) expand efforts to increase the availability of native plant materials; and (4) collaborate with other federal agencies; tribal, State, and local governments; academic institutions; and the private sector.

Regulatory Certifications

Regulatory Impact

This proposed directive has been reviewed under USDA procedures and Executive Order 12866 (September 30, 1993) on regulatory planning and review. It has been determined that this is not a significant action. This proposed action to provide agency direction would not have an annual effect of $100 million or more on the economy nor adversely affect productivity, competition, jobs, the environment, public health or safety, nor State or local governments. This proposed action would not interfere with an action taken or planned by another agency nor raise new legal or policy issues. Finally, this proposed action would not alter the budgetary impact of entitlements, grants, user fees, or loan programs or the rights and obligations of recipients program. Accordingly, this proposed action is not subject to Office of Management and Budget review under Executive Order 12866.

Environmental Impact

These proposed additions to Forest Service Manual (FSM) 2070 would address the use of native plant materials in revegetation, rehabilitation, and restoration projects; and when nonnative, noninvasive species may be used. Section 31.1b of Forest Service Handbook (FSH) 1909.15 (57 FR 43168; September 18, 1992) excludes from documentation in an environmental assessment or impact statement “rules, regulations, or policies to establish Service-wide administrative procedures, program processes, or instruction.” The Agency's preliminary assessment is that this proposed action falls within this category of actions, and that no extraordinary circumstances exist as currently defined which would require preparation of an environmental impact statement or environmental assessment. A final determination will be made upon adoption of the final directive.

Federalism

The agency has considered this proposed directive under the requirements of Executive Order 13132 (August 4, 1999) on federalism. The agency has made an assessment that the proposed directive conforms with the federalism principles set out in this executive order; would not impose any compliance costs on the States; and would not have substantial direct effects on the States, on the relationship between the national government and the States, nor on the distribution of power and responsibilities among the various levels of government. Therefore, the Agency concludes that the proposed directive does not have federalism implications.

Consultation and Coordination With Indian Tribal Governments

This proposed directive has been reviewed under Executive Order 13175 (November 6, 2000) on consultation and coordination with Indian tribal governments. This proposed directive does not have substantial direct effects on one or more Indian tribes, on the relationship between the federal government and Indian tribes, or on the distribution of power and responsibilities between the federal government and Indian tribes. Nor does this proposed directive impose substantial direct compliance costs on Indian tribal governments or preempt tribal law. Therefore, it has been determined that this proposed directive does not have tribal implications requiring advance consultation with Indian tribes.

No Takings Implications

This proposed directive has been analyzed in accordance with the principles and criteria contained in Executive Order 12630 (March 15, 1998) on governmental actions and interference with constitutionally protected property rights. It has been determined that the proposed directive does not pose the risk of a taking of constitutionally protected private property.

Civil Justice Reform Act

This proposed action has been reviewed under Executive Order 12988 (February 7, 1996) on civil justice reform. If this proposed directive were adopted: (1) All State and local laws and regulations that are in conflict with this proposed directive or which would impede its full implementation would be preempted; (2) no retroactive effect would be given to this proposed directive; and (3) it would not require administrative proceedings before parties may file suit in court challenging its provisions.

Energy Effects

This proposed directive has been reviewed under Executive Order 13211 (May 18, 2001) on actions concerning regulations that significantly affect energy supply, distribution, or use. It has been determined that this proposed directive does not constitute a significant energy action as defined in the Executive Order.

Controlling Paperwork Burdens on the Public

This proposed directive does not contain any additional recordkeeping or reporting requirements associated with onshore oil and gas exploration and development or other information collection requirements as defined in Title 5 Code of Federal Regulations (CFR), part 1320. Accordingly, the review provisions of the Paperwork Reduction Act of 1995 (44 U.S.C. 3501 et seq.) and its implementing regulations at 5 CFR part 1320 do not apply.

Dated: May 16, 2006
Dale N. Bosworth,
Chief, Forest Service.

[FR Doc. E6-8136 Filed 5-25-06; 8:45 am]

BILLING CODE 3410-11-P